DEPARTMENT OF ENERGY

Federal Energy Regulatory Commission

[Docket No. RP03-566-000]

Transcontinental Gas Pipe Line Corporation; Notice of Refund Report

August 20, 2003.

Take notice that on August 12, 2003, Transcontinental Gas Pipe Line Corporation (Transco) tendered for filing a report reflecting the flow through of refunds received from Dominion Transmission, Inc.

Transco states that on July 15, 2003 in accordance with Section 4 of its Rate Schedule LSS and Section 3 of its Rate Schedule GSS, it refunded $177,572.18 to its LSS and GSS customers, as a result of the refund of Dominion Transmission, Inc. in Docket No. RP03-515. Transco states that the refund covers the period from April 1, 2002 to March 31, 2003.

Any person desiring to be heard or to protest said filing should file a motion to intervene or a protest with the Federal Energy Regulatory Commission, 888 First Street, NE., Washington, DC 20426, in accordance with Sections 385.214 or 385.211 of the Commission's Rules and Regulations. All such motions or protests must be filed or before the intervention and protest date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 26, 2003.

Magalie R. Salas,
Secretary.

[FR Doc. 03-21897 Filed 8-26-03; 8:45 am]

BILLING CODE 6717-01-P